FEDERAL COMMUNICATIONS COMMISSION

Notice of Public Information Collection(s) Being Reviewed by the Federal Communications Commission for Extension Under Delegated Authority, Comments Requested

July 29, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Persons wishing to comment on this information collection should submit comments October 7, 2002. If you anticipate that you will be submitting comments, but find it difficult to do so within the period of time allowed by this notice, you should advise the contact listed below as soon as possible.

ADDRESSES: Direct all comments to Judy Boley Herman, Federal Communications Commission, 445 12th Street, SW, Room 1-C804, Washington, DC 20554 or via the Internet to jboley@fcc.gov.

FOR FURTHER INFORMATION CONTACT: For additional information or copies of the information collections contact Judy Boley Herman at 202-418-0214 or via the Internet at jboley@fcc.gov.

SUPPLEMENTARY INFORMATION: OMB Control No.: 3060-0683.

Title: Direct Broadcast Satellite Service.

Form No.: N/A.

Type of Review: Extension of a currently approved collection.

Respondents: Business or other for-profit.

Number of Respondents: 6 respondents; 35 responses.

Estimated Time Per Response: 1.5-20 hours.

Frequency of Response: On occasion, one-time, and annual reporting requirements, and recordkeeping requirement.

Total Annual Burden: 3,200 hours.

Annual Reporting and Recordkeeping Cost Burden: $50,000.

Needs and Uses: The Commission sought and received emergency clearance of this information collection on 7/26/02. The Commission is now initiating a 60-day comment period to extend this collection with no change for the regular, three-year approval.

This information collection, among other things, previously modified Direct Broadcast Satellite (DBS) to Part 25 of the Commission's rules, and eliminated Part 100 of the Commission's rules. These revisions were necessary to simplify the procedures applicable to DBS, to eliminate unnecessary filing requirements, and to harmonize the DBS licensing process with that of other satellite services.

Federal Communications Commission.
Marlene H. Dortch,
Secretary.

[FR Doc. 02-19883 Filed 8-6-02; 8:45 am]

BILLING CODE 6712-01-P